DEPARTMENT OF DEFENSE

Office of the Secretary

[Docket ID: DoD-2024-OS-0087]

Proposed Collection; Comment Request

AGENCY: Office of the Under Secretary of Defense (Comptroller)/Chief Financial Officer, Department of Defense (DoD).

ACTION: 60-Day information collection notice.

SUMMARY: In compliance with the Paperwork Reduction Act of 1995, the Defense Health Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 1, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Finance and Accounting Service, 8899 E 56th St., Indianapolis, IN 46249, ATTN: Ms. Kellen Stout, (317) 212-1801.

SUPPLEMENTARY INFORMATION:

Title; Associated Form; and OMB Number: Involuntary Allotment Application; DD Form 2653; OMB Control Number 0730-0018.

Needs and Uses: This collection of information is in response to requests for involuntary allotments. Before responding to a request, the responsible government official must have information that identifies both the applicant and the member against whom the involuntary allotment is sought; proves that the request is based on a valid court judgment; shows that the judgment comports with the provision of the Soldiers and Sailors Civil Relief Act (SCRA); and enables consideration for whether exigencies of military duty caused the absence of the member from a judicial proceeding upon which the judgment is based. With the exception of information concerning exigencies of military duty, an applicant for an involuntary allotment must provide required information before a government official can act on the applicant's request. The information from the DD Form 2653 is used by DFAS officials to determine whether an involuntary allotment should be established against the pay of a member of the Armed Forces. The information is used to provide government reviewing officials with necessary information to ensure that both the law and due process considerations are accounted for, including information sufficient for a decision maker to determine that the request is based on a valid judgment and that the SCRA has been complied with.

Affected Public: Individuals or households.

Annual Burden Hours: 1,392

Number of Respondents: 2,783.

Responses per Respondent: 1.

Annual Responses: 2,783

Average Burden per Response: 30 minutes.

Frequency: On occasion.

Dated: July 24, 2024.
Aaron T. Siegel,
Alternate OSD Federal Register Liaison Officer, Department of Defense.

[FR Doc. 2024-17112 Filed 8-1-24; 8:45 am]

BILLING CODE 6001-FR-P